DEPARTMENT OF DEFENSE

Office of the Secretary

Defense Science Board

AGENCY: Department of Defense.

ACTION: Notice of advisory committee meetings.

SUMMARY: The Defense Science Board (DSB) Task Force on Aircraft Carriers of the Future will meet in closed session on October 22-23, 2001; November 5-7, 2001; November 15-16, 2001; December 11-12, 2001; January 16-17, 2002; February 21-22, 2002; and March 13-14, 2002. All meetings will be held at Strategic Analysis Inc., 3601 Wilson Boulevard, Arlington, VA 22201, with the exception of the November 5-7 and November 15-16 meetings, which will be held in San Diego, CA. The Task Force will assess how aircraft carriers should serve the nation's defense needs in the 21st Century and beyond.

The mission of the Defense Science Board is to advise the Secretary of Defense and the Under Secretary of Defense for Acquisition, Technology & Logistics on scientific and technical matters as they affect the perceived needs of the Department of Defense. At these meetings, the Task Force will examine the expected naval environment and the role of the Navy for the next 20-50 years; the role of the carrier and the carrier battle group in a joint environment in which technology has progressed at an appropriate pace for both the U.S. and its potential adversaries; the effects of Unmanned Combat Air Vehicles on the role of the carrier and the carrier battle group; how the carrier should evolve or be transformed to best meet mission requirements in a joint environment; how the role of the aircraft carrier might change and the characteristics that might affect the change; and the technology improvement barriers that need to be overcome to significantly improve the ability of the carrier to execute its missions.

In accordance with Section 10(d) of the Federal Advisory Committee Act, Pub. L. No. 92-463, as amended (5 U.S.C. App. II), it has been determined that these DSB Task Force meetings concern matters listed in 5 U.S.C. 552b(c)(1), and that accordingly these meetings will be closed to the public.

Dated: October 5, 2001.
L.M. Bynum,
Alternate OSD Federal Register Liaison Officer, Department of Defense.

[FR Doc. 01-25666 Filed 10-11-01; 8:45 am]

BILLING CODE 5001-08-M